DEPARTMENT OF AGRICULTURE

Submission for OMB Review; Comment Request

May 24, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 30, 2017 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Swine Health Protection.

OMB Control Number: 0579-0065.

Summary of Collection: The Animal Health Protection Act (AHPA) of 2002 is the primary Federal law governing the protection of animal health. The law gives the Secretary of Agriculture broad authority to detect, control, or eradicate pests or diseases of livestock or poultry. The AHPA is contained in Title X, Subtitle E, Sections 10401-18 of P.O. 107-171, May 13, 2002, the Farm Security and Rural Investment Act of 2002. Veterinary Services, a program with the Animal and Plant Health Inspection Service (APHIS), is responsible for administering regulations intended to prevent the dissemination of animal diseases within the United States. Garbage is one of the primary media through which numerous infections or communicable diseases of swine are transmitted. Because of the serious threat to the U.S. swine industry, Congress passed Public Law 96-468 “Swine Health Protection Act” on October 17, 1980. This law requires USDA to ensure that all garbage is treated prior to its being fed to swine that are intended for interstate or foreign commerce or that substantially affect such commerce. The Act and the regulations will allow only operators of garbage treatment facilities, which meet certain specification to utilize garbage for swine feeding. APHIS will use various forms to collect information.

Need and Use of the Information: APHIS collects information from persons desiring to obtain a permit (license) to operate a facility to treat garbage. Prior to issuance of a license, an inspection will be made of the facility by an authorized representative to determine if it meets all requirements of the regulations. Periodic inspections will be made to determine if licenses are meeting the standards for operation of their approved facilities. Upon receipt of the information from the Animal Health Officials, the information is used by Federal or State animal health personnel to determine whether the waste collector is feeding garbage to swine, whether it is being treated, and whether the feeder is licensed or needs to be licensed.

Description of Respondents: Business or other for profit; State, Local or Tribal Government.

Number of Respondents: 2,110.

Frequency of Responses: Recordkeeping; Reporting: On occasion.

Total Burden Hours: 1,614,541.

Animal and Plant Health Inspection Service

Title: Importation of Live Swine, Pork, and Pork Products from Certain Regions Free of CSF in Chile, Mexico, and Brazil.

OMB Control Number: 0579-0230.

Summary of Collection: The Animal Health Protection Act (AHPA) of 2002 is the primary Federal law governing the protection of animal health. The law gives the Secretary of Agriculture broad authority to detect, control, or eradicate pests or diseases of livestock or poultry. The regulations under which the Animal and Plant Health Inspection Service (APHIS) conducts disease prevention activities are contained in Title 9, Chapter 1, Subchapter D, Part 94. These regulations place certain restrictions on the importation of swine, pork, and pork products into the United States.

Need and Use of the Information: APHIS will collect information to ensure regulatory compliance for mitigation of classical swine fever (CSF) from imports of swine, pork, and pork products into the United States. One requirement is the completion of a certificate issued by a salaried veterinary officer of the Governments of Mexico, Chile, or Brazil that must accompany swine, pork, and pork products from their respective regions. Other requirements are a compliance agreement that is required by the operators of the processing establishment located in a non-CSF free region that processes pork products from CSF free regions, and a cooperative service agreement that is required by the processing establishment located in a non-CSF free region that produces pork products from a CSF free region. Either the CSF free region, or a party on its behalf, must enter into a cooperative service agreement with APHIS to pay all expenses incurred by APHIS for the initial evaluation of the processing establishment and periodically thereafter. If the information was not collected, APHIS would be unable to establish an effective defense against the entry and spread of CSF from Mexican, Chilean, and Brazilian swine, pork, and pork product imports. This would cause serious health consequences from U.S. swine and economic consequences for the U.S. pork industry.

Description of Respondents: Businesses and Federal Animal Health Officials of the Governments of Mexico, Brazil, and Chile.

Number of Respondents: 11.

Frequency of Responses: Reporting: On occasion.

Total Burden Hours: 3,009.

Animal and Plant Health Inspection Service

Title: Importation of Clementines, Mandarins, and Tangerines from Chile.

OMB Control Number: 0579-0242.

Summary of Collection: Under the Plant Protection Act (7 U.S.C. 7701-7772), the Secretary of Agriculture is authorized to carry out operations or measures to detect, eradicate, suppress, control, prevent, or retard the spread of plant pests new to the United States or not known to be widely distributed throughout the United States. The regulations in “Subpart-Fruits and Vegetables” (7 CFR 319.56 through 319.56-58) prohibit or restrict the importation of fruits and vegetables into the United States from certain parts of the world, to prevent the introduction and dissemination of plant pests, including fruit flies that are new to or not widely distributed within the United States. The Animal and Plant Health Inspection Service (APHIS) fruits and vegetables regulations allow the importation, under certain conditions, of clementines, mandarins, and tangerines from Chile into the United States.

Need and Use of the Information: APHIS requires that some plants or plant products are accompanied by a phytosanitary inspection certificate that is completed by plant health officials in the originating or transiting country. APHIS will use the information on this certificate to determine the pest condition of the shipment at the time of inspection in the foreign country. This information is used as a guide to the intensity of the inspection that APHIS must conduct when the shipment arrives. Without the information, all shipments would need to be inspected very thoroughly, thereby requiring considerable more time, this would slow the clearance of international shipments.

Description of Respondents: Business or other for-profit; Federal Government.

Number of Respondents: 40.

Frequency of Responses: Reporting: On occasion.

Total Burden Hours: 216.

Animal and Plant Health Inspection Service

Title: Importation of Beef and Ovine Meat from Uruguay and Beef from Argentina and Brazil.

OMB Control Number: 0579-0372.

Summary of Collection: The Animal Health Protection Act (AHPA) of 2002 (7 U.S.C. 8301), is the primary Federal law governing the protection of animal health. The law gives the Secretary of Agriculture broad authority to detect, control, or eradicate pests or diseases of livestock or poultry. The agency charged with carrying out this disease prevention mission is the Animal and Plant Health Inspection Service (APHIS). Disease prevention is the most effective method for maintaining a healthy animal population and enhancing APHIS' ability to compete globally in animal and animal product trade. APHIS import regulations in sections 94.1 and 94.22 place certain restrictions on the importation of beef and ovine meat from Uruguay into the United States. Section 94.29 places certain restrictions on the importation of beef and ovine meat from Uruguay and fresh (chilled or frozen) beef from certain regions in Argentina and Brazil into the United States to prevent the introduction of foot-and-mouth disease. Under these regulations, APHIS must collect information, prepared by an authorized certified official of the Government of Uruguay, Argentina, and Brazil.certifying that specific conditions for importation have been met.

Need and Use of the Information: Imported beef and ovine meat from Uruguay and imported beef from northern Argentina and imported beef from the specific regions in Brazil must be accompanied by a foreign meat inspection certificate that is completed and signed by an authorized veterinary official of the Government of Uruguay, Argentina, and Brazil. Without the information, APHIS would be unable to establish an effective defense against the entry and spread of foot-and-mouth disease and other animal diseases from Uruguay beef and ovine product imports as well as imports of beef and beef products from Argentina and Brazil.

Description of Respondents: Federal Government; Business or Other for Profit.

Number of Respondents: 18.

Frequency of Responses: Recordkeeping; Reporting: On occasion.

Total Burden Hours: 14,802.

Animal and Plant Health Inspection Service

Title: Importation of Jackfruit, Pineapple, and Starfruit from Malaysia into the Continental United States.

OMB Control Number: 0579-0408.

Summary of Collection: The Plant Protection Act (PPA, 7 U.S.C. 7701 et seq.) authorizes the Secretary of Agriculture to restrict the importation, entry, or interstate movement of plants, plant products, and other articles to prevent the introduction of plant pests into the United States or their dissemination within the United States. As authorized by the PPA, the Animal and Plant Health Inspection Service (APHIS) regulates the importation of fruits and vegetables into the United States from certain parts of the world as provided in “Subpart—Fruits and Vegetables” (7 CFR 319.56-1 through 319.56-76). APHIS regulations allow, under certain conditions, the importation into the United States of commercial consignments of jackfruit, pineapple, and starfruit from Malaysia.

Need and Use of the Information: The condition for the importation of fruit from Malaysia include requirements for: (1) Irradiation treatment for insect pests, (2) inspection, and (3) importation of commercial consignments. The fruit will also be required to be accompanied by a phytosanitary certificate issued by the National Plant Protection Organization of Malaysia with a commodity specific additional declaration confirming that the fruit has been produced in accordance with the requirements.

APHIS uses the collected information to verify that jackfruit, pineapple, and starfruit from Malaysia are grown in production areas that are registered and monitored by the NPPO of Malaysia and to verify that consignments have been treated with irradiation.

Description of Respondents: Business or other for profit; Federal Government.

Number of Respondents: 86.

Frequency of Responses: Reporting: On occasion.

Total Burden Hours: 170.

Ruth Brown,
Departmental Information Collection Clearance Officer.

[FR Doc. 2017-11108 Filed 5-30-17; 8:45 am]

BILLING CODE 3410-34-P